DEPARTMENT OF HEALTH AND HUMAN SERVICES

Health Resources and Services Administration

Agency Information Collection Activities: Proposed Collection: Public Comment Request; Information Collection Request Title: MCH Jurisdictional Survey Instrument for the Title V MCH Block Grant Program, OMB No. 0906-XXXX, New

AGENCY: Health Resources and Services Administration (HRSA), Department of Health and Human Services.

ACTION: Notice.

SUMMARY: In compliance with the requirement of the Paperwork Reduction Act of 1995 for opportunity for public comment on proposed data collection projects, HRSA announces plans to submit an Information Collection Request (ICR), described below, to the Office of Management and Budget (OMB). Prior to submitting the ICR to OMB, HRSA seeks comments from the public regarding the burden estimate, or any other aspect of the ICR related to the Maternal and Child Health (MCH) Jurisdictional Survey that is to be administered in the U.S. territories and jurisdictions (excluding the District of Columbia) for purposes of collecting information related to the well-being of all mothers, children, and their families.

DATES: Comments on this ICR must be received no later than January 15, 2019.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: MCH Jurisdictional Survey Instrument for the Title V MCH Block Grant Program, OMB No. 0906-XXXX New.

Abstract: The purpose of the Title V MCH Block Grant is to improve the health of the nation's mothers, infants, children, including children with special health care needs, and their families by creating federal/state partnerships that provide each state/jurisdiction with needed flexibility to respond to its individual MCH population needs. Unique to the MCH Block Grant is a commitment to performance accountability, while assuring state flexibility. Utilizing a three-tiered national performance measure framework, which includes National Outcome Measures (NOMs), National Performance Measures (NPMs), and Evidence-Based and Evidence-Informed Strategy Measures, State Title V programs report annually on their performance relative to the selected national performance and outcome measures. Such reporting enables the state and federal program offices to assess the progress achieved in key MCH priority areas and to document Title V program accomplishments.

By legislation (Section 505(a) of Title V of the Social Security Act), the MCH Block Grant Application/Annual Report must be developed by, or in consultation with, the State MCH Health agency. In establishing state reporting requirements, HRSA's Maternal and Child Health Bureau (MCHB) considers the availability of national data from other federal agencies. Data for the national performance and outcome measures are pre-populated for states in the Title V Information System. National data sources identified for the NPMs and NOMs in the MCH Block Grant program seldom include data from the Title V jurisdictions, with the exception of the District of Columbia. The eight remaining jurisdictions (American Samoa, Federated States of Micronesia, Guam, Marshall Islands, Northern Mariana Islands, Palau, Puerto Rico, and U.S. Virgin Islands) have limited access to significant data and MCH indicators, with limited capacity for collecting these data.

Sponsored by HRSA's MCHB, the MCH Jurisdictional Survey is designed to produce data on the physical and emotional health of mothers and children under 18 years of age in the following eight jurisdictions—American Samoa, Federated States of Micronesia, Guam, Marshall Islands, Northern Mariana Islands, Palau, Puerto Rico, and Virgin Islands. More specifically, the MCH Jurisdictional Survey collects information on factors related to the well-being of children, including health status, visits to health care providers, health care costs, and health insurance coverage. In addition, the MCH Jurisdictional Survey collects information on factors related to the well-being of mothers, including health risk behaviors, health conditions, and preventive health practices. This data collection will enable the jurisdictions to meet federal performance reporting requirements and to demonstrate the impact of Title V funding relative to MCH outcomes for the U.S. jurisdictions in reporting on their unique MCH priority needs.

The MCH Jurisdictional Survey was designed based on information-gathering activities with Title V leadership and program staff in the jurisdictions, experts at the Centers for Disease Control and Prevention, and other organizations with relevant data collection experience. Survey items are based on the National Survey of Children's Health, the Behavioral Risk Factor Surveillance System (BRFSS), the Youth Behavior Surveillance System, and selected other federal studies. The Survey is designed as a core questionnaire to be administered across all jurisdictions with a supplemental set of survey questions customized to the needs of each jurisdiction.

Need and Proposed Use of the Information: Data from the MCH Jurisdictional Survey will be used to measure progress on national performance and outcome measures under the Title V MCH Block Grant Program. This survey instrument is critical to collecting information on factors related to the well-being of all mothers, children, and their families in the jurisdictional Title V programs, which address their unique MCH needs.

Likely Respondents: The respondent universe is women age 18 or older who live in one of the eight targeted U.S. jurisdictions (Puerto Rico, U.S. Virgin Islands, Guam, Northern Mariana Islands, American Samoa, Palau, Marshall Islands, and Federated States of Micronesia) and who are mothers or guardians of at least one child aged 0-17 years living in the same household.

Burden Statement: Burden in this context means the time expended by persons to generate, maintain, retain, disclose, or provide the information requested. Included is the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours:

Type of respondent | Form name | Number of respondents | Number of responses per respondent | Average burden per response (in hours) | Burden hours per form | Total burden hours
Adult Parents—Puerto Rico | Screener | 1,250 | 1 | 0.03 | 37.50 | 217.50
| Core | 200 | 1 | 0.83 | 166.00
| Jurisdiction Module | 200 | 1 | 0.07 | 14.00
Adult Parents—U.S. Virgin Islands | Screener | 1,428 | 1 | 0.03 | 42.84 | 222.84
| Core | 200 | 1 | 0.83 | 166.00
| Jurisdiction Module | 200 | 1 | 0.07 | 14.00
Adult Parents—Guam | Screener | 908 | 1 | 0.03 | 27.24 | 207.24
| Core | 200 | 1 | 0.83 | 166.00
| Jurisdiction Module | 200 | 1 | 0.07 | 14.00
Adult Parents—American Samoa | Screener | 461 | 1 | 0.03 | 13.83 | 189.83
| Core | 200 | 1 | 0.83 | 166.00
| Jurisdiction Module | 200 | 1 | 0.05 | 10.00
Adult Parents—Federated States of Micronesia | Screener | 856 | 1 | 0.03 | 25.68 | 201.68
| Core | 200 | 1 | 0.83 | 166.00
| Jurisdiction Module | 200 | 1 | 0.05 | 10.00
Adult Parents—Marshall Islands | Screener | 856 | 1 | 0.03 | 25.68 | 207.68
| Core | 200 | 1 | 0.83 | 166.00
| Jurisdiction Module | 200 | 1 | 0.08 | 16.00
Adult Parents—Northern Mariana Islands | Screener | 666 | 1 | 0.03 | 19.98 | 201.98
| Core | 200 | 1 | 0.83 | 166.00
| Jurisdiction Module | 200 | 1 | 0.08 | 16.00
Adult Parents—Palau | Screener | 499 | 1 | 0.03 | 14.97 | 184.97
| Core | 200 | 1 | 0.83 | 166.00
| Jurisdiction Module | 200 | 1 | 0.02 | 4.00
Total |  | 6,924 |  |  |  | 1,633.72

HRSA specifically requests comments on: (1) The necessity and utility of the proposed information collection for the proper performance of the agency's functions; (2) the accuracy of the estimated burden; (3) ways to enhance the quality, utility, and clarity of the information to be collected; and (4) the use of automated collection techniques or other forms of information technology to minimize the information collection burden.

Amy P. McNulty,
Acting Director, Division of the Executive Secretariat.

[FR Doc. 2018-25070 Filed 11-15-18; 8:45 am]

BILLING CODE 4165-15-P